DEPARTMENT OF HEALTH AND HUMAN SERVICES

Centers for Disease Control and Prevention

[30DAY-66-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Youth Risk Behavior Survey—(0920-0258)—New—National Center for Chronic Disease Prevention and Health Promotion (NCCDPHP). The proposed project is the 2001 national school-based Youth Risk Behavior Survey. The purpose of this request is to renew OMB clearance to continue an ongoing biennial survey among high school students attending regular public, private, and Catholic schools in grades 9-12. The survey assesses priority heath risk behaviors related to the major preventable causes of mortality, morbidity, and social problems among both youth and adults in the U.S. OMB clearance for the 1999 survey expired January 2000 (OMB No. 0920-0258, expiration 01/00). Data on the health risk behaviors of adolescents is the focus of approximately 40 national health objectives in Healthy People 2010. The Youth Risk Behavior Survey provides data to measure at least 10 of these health objectives and 3 of the 10 Leading Health Indicators. In addition, the Youth Risk Behavior Survey can identify racial and ethnic disparities in health risk behaviors. No other national source of data measures as many of the 2010 objectives that address behaviors of adolescents. The data also will have significant implications for policy and program development for school health programs nationwide. The annualized burden is 9,173 hours.

Respondents | Number of respondents | Number of responses per respondent | Burden per response (hours)
High school students | 12,000 | 1 | 0.75
School administrators | 345 | 1 | 0.50

Dated: September 5, 2000.
Nancy Cheal,
Acting Associate Director for Policy, Planning and Evaluation, Centers for Disease Control and Prevention (CDC).

[FR Doc. 00-23203 Filed 9-8-00; 8:45 am]

BILLING CODE 4163-18-P